ENVIRONMENTAL PROTECTION AGENCY

40 CFR Part 52

[EPA-R05-OAR-2006-0003; FRL-8512-5]

Approval and Promulgation of Air Quality Implementation Plans; Illinois

AGENCY: Environmental Protection Agency (EPA).

ACTION: Proposed rule.

SUMMARY: EPA is proposing disapproval of a revision to the Illinois Ozone State Implementation Plan (SIP). On August 17, 2005, Illinois requested that five compounds be added to its list of compounds exempt from being considered a volatile organic compound (VOC). EPA no longer considers four of the compounds to be VOCs because the compounds were shown to be negligibly photochemically reactive. Thus, the compounds do not lead to ozone formation. For the fifth compound, t-butyl acetate, EPA determined that it is not considered a VOC for emission limits and VOC content requirements, but it is considered a VOC for recordkeeping, emission reporting, and inventory requirements. Illinois has indicated it is correcting the restrictions on t-butyl acetate. Consequently, EPA is alternatively proposing approval of the SIP revisions if t-butyl acetate is removed from the list of compounds exempt from being considered VOC or if the special requirements for t-butyl acetate are clearly indicated. Illinois must submit the supporting documentation during the comment period for this rule.

DATES: Comments must be received on or before January 30, 2008.

ADDRESSES: Submit your comments, identified by Docket ID No. EPA-R05-OAR-2006-0003, by one of the following methods:

1. http://www.regulations.gov: Follow the on-line instructions for submitting comments.

2. E-mail: mooney.john@epa.gov.

3. Fax: (312)886-5824.

4. Mail: John M. Mooney, Chief, Criteria Pollutant Section, Air Programs Branch (AR-18J), U.S. Environmental Protection Agency, 77 West Jackson Boulevard, Chicago, Illinois 60604.

5. Hand Delivery: John M. Mooney, Chief, Criteria Pollutant Section, Air Programs Branch (AR-18J), U.S. Environmental Protection Agency, 77 West Jackson Boulevard, Chicago, Illinois 60604. Such deliveries are only accepted during the Regional Office normal hours of operation, and special arrangements should be made for deliveries of boxed information. The Regional Office official hours of business are Monday through Friday, 8:30 a.m. to 4:30 p.m. excluding Federal holidays.

Instructions: Direct your comments to Docket ID No. EPA-R05-OAR-2006-0003. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or e-mail. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the Environmental Protection Agency, Region 5, Air and Radiation Division, 77 West Jackson Boulevard, Chicago, Illinois 60604. This Facility is open from 8:30 a.m. to 4:30 p.m., Monday through Friday, excluding legal holidays. We recommend that you telephone Matt Rau, Environmental Engineer, (312) 886-6524 before visiting the Region 5 office.

FOR FURTHER INFORMATION CONTACT: Matt Rau, Environmental Engineer, Criteria Pollutant Section, Air Programs Branch (AR-18J), Environmental Protection Agency, Region 5, 77 West Jackson Boulevard, Chicago, Illinois 60604, (312) 886-6524, rau.matthew@epa.gov.

SUPPLEMENTARY INFORMATION: Throughout this document, whenever “we,” “us,” or “our” is used, we mean EPA. This supplementary information section is arranged as follows:

I. What Should I Consider as I Prepare My Comments for EPA?

II. What Revisions Did the State Request?

III. What Is EPA's Analysis of the Revisions?

IV. What Action Is EPA Taking Today?

V. Statutory and Executive Order Reviews

I. What Should I Consider as I Prepare My Comments for EPA?

When submitting comments, remember to:

1. Identify the rulemaking by docket number and other identifying information (subject heading, Federal Register date and page number).

2. Follow directions—The EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What Revisions Did the State Request?

Illinois requested revisions to its ozone SIP which would add five compounds from the list of compounds considered to not be VOC. The State requested the compounds 1,1,1,2,2,3,3-heptafluoro-3-methoxypropane (n-C3F7OCH3), 3-ethoxy 1,1,1,2,3,4,4,5,5,6,6,6-dodecafluoro-2-(trifluoromethyl)hexane (HFE-7500), 1,1,1,2,3,3,3-heptafluoropropane (HFC-227ea), methyl formate, and t-butyl acetate be added to its list of compounds exempt from VOC requirements. Illinois also requested the addition of special requirements for t-butyl acetate. The compound, t-butyl acetate, will be considered VOC for recordkeeping, emissions reporting, modeling, and inventory requirements, but is not considered VOC for emission limits or content requirements. The special restrictions on t-butyl acetate are listed in a separate section from the listing of compounds exempt from being considered VOCs.

III. What Is EPA's Analysis of the Revisions?

EPA added four compounds, n-C3F7OCH3, HFE-7500, HFC-227ea, and methyl formate, to its list of compounds exempt from VOC requirements on November 29, 2004 (69 FR 69290). EPA also provided special requirements for t-butyl acetate users in a separate November 29, 2004, action (69 FR 69298). Users of t-butyl acetate still must follow the recordkeeping, emissions reporting, modeling, and inventory requirements. However, t-butyl acetate is not considered a VOC for content requirements and emission limits.

Illinois added the four compounds from the EPA plus t-butyl acetate to Title 35 of the Illinois Administration Code Section 211.7150(a), its list of compounds exempt from VOC requirements. It also added Section 211.7150(e), which provides the same unique requirements for t-butyl acetate users as the EPA action did. It is not appropriate for t-butyl acetate to be listed in 211.7150(a) because this compound is not exempt from all VOC requirements as are the other compounds listed there. It should be listed in 211.7150(e) only, so the unique requirements for t-butyl acetate are clear. This would follow the approach EPA took in making these revisions to the Federal definition of VOC through separate actions.

EPA would find the requested revisions approvable if Illinois removes t-butyl acetate from the list of compounds exempt from VOC requirements in 211.7150(a). This would leave it listed only under 211.7150(e) which makes it clear what requirements apply to t-butyl acetate users. EPA would also find it acceptable for Illinois to add a note to section 211.7150(a) that certain compounds listed in section 211.7150(a) are subject to the requirements of 211.7150(e). This would direct t-butyl acetate users to section 211.7150(e) where the special requirements for this compound are stated.

IV. What Action Is EPA Taking Today?

EPA is proposing disapproval of the requested ozone revisions to the Illinois SIP. In the alternative, EPA is proposing approval of ozone revisions to the Illinois SIP if a correction is made to Title 35 of the Illinois Administration Code Section 211.7150(a) to remove t-butyl acetate from the list of compounds exempt from VOC regulations or if it is clearly stated that t-butyl acetate is subject to the requirements of section 211.7150(e). Illinois must submit the supporting documentation of the correction during the comment period for this rule for the alternative, proposed approval to be considered. Illinois has proposed adding language to section 211.7150(a) that states some compounds listed in that section must also follow the restrictions in section 211.7150(e). EPA finds this language acceptable. If Illinois submits the final state rule with language of the proposed state rule, this action should be considered a proposed approval.

VI. Statutory and Executive Order Reviews

Executive Order 12866: Regulatory Planning and Review

Under Executive Order 12866 (58 FR 51735, September 30, 1993), this action is not a “significant regulatory action” and, therefore, is not subject to review by the Office of Management and Budget.

Paperwork Reduction Act

This proposed rule does not impose an information collection burden under the provisions of the Paperwork Reduction Act of 1995 (44 U.S.C. 3501 et seq.).

Regulatory Flexibility Act

This proposed action merely proposes to approve state law as meeting Federal requirements and imposes no additional requirements beyond those imposed by state law. Accordingly, the Administrator certifies that this proposed rule will not have a significant economic impact on a substantial number of small entities under the Regulatory Flexibility Act (5 U.S.C. 601 et seq.).

Unfunded Mandates Reform Act

Because this rule proposes to approve pre-existing requirements under State law and does not impose any additional enforceable duty beyond that required by State law, it does not contain any unfunded mandate or significantly or uniquely affect small governments, as described in the Unfunded Mandates Reform Act of 1995 (Pub. L. 104-4).

Executive Order 13132: Federalism

This action also does not have Federalism implications because it does not have substantial direct effects on the states, on the relationship between the national government and the states, or on the distribution of power and responsibilities among the various levels of government, as specified in Executive Order 13132 (64 FR 43255, August 10, 1999). This action merely proposes to approve a State rule implementing a Federal standard, and does not alter the relationship or the distribution of power and responsibilities established in the Clean Air Act.

Executive Order 13175: Consultation and Coordination With Indian Tribal Governments

This proposed rule also does not have tribal implications because it will not have a substantial direct effect on one or more Indian tribes, on the relationship between the Federal Government and Indian tribes, or on the distribution of power and responsibilities between the Federal Government and Indian tribes, as specified by Executive Order 13175 (65 FR 67249, November 9, 2000).

Executive Order 13045: Protection of Children From Environmental Health and Safety Risks

This proposed rule also is not subject to Executive Order 13045 “Protection of Children from Environmental Health Risks and Safety Risks” (62 FR 19885, April 23, 1997), because it proposes approval of a state rule implementing a Federal Standard.

Executive Order 13211: Actions That Significantly Affect Energy Supply, Distribution, or Use

Because it is not a “significant regulatory action” under Executive Order 12866 or a “significant regulatory action,” this action is also not subject to Executive Order 13211, “Actions Concerning Regulations That Significantly Affect Energy Supply, Distribution, or Use” (66 FR 28355, May 22, 2001).

National Technology Transfer Advancement Act

Section 12(d) of the National Technology Transfer and Advancement Act of 1995 (NTTAA), 15 U.S.C. 272, requires Federal agencies to use technical standards that are developed or adopted by voluntary consensus to carry out policy objectives, so long as such standards are not inconsistent with applicable law or otherwise impractical. In reviewing SIP submissions, EPA's role is to approve State choices, provided that they meet the criteria of the Clean Air Act. Absent a prior existing requirement for the state to use voluntary consensus standards, EPA has no authority to disapprove a SIP submission for failure to use such standards, and it would thus be inconsistent with applicable law for EPA to use voluntary consensus standards in place of a program submission that otherwise satisfies the provisions of the Clean Air Act. Therefore, the requirements of section 12(d) of the NTTAA do not apply.

List of Subjects in 40 CFR Part 52

Environmental protection, Air pollution control, Incorporation by reference, Intergovernmental relations, Ozone, Reporting and recordkeeping requirements, Volatile organic compounds.

Dated: December 18, 2007.
Bharat Mathur,
Acting Regional Administrator, Region 5.

[FR Doc. E7-25405 Filed 12-28-07; 8:45 am]

BILLING CODE 6560-50-P